DEPARTMENT OF COMMERCE

Census Bureau

2007 Census Bilingual Form Study

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(C)(2)(A)).

DATES: Written comments must be submitted on or before October 30, 2006.

ADDRESSES: Direct all written comments to Diana Hynek, Departmental Paperwork Clearance Officer, Room 6625, 14th and Constitution Avenue, NW., Washington, DC 20230 (or via the Internet at Dhynek@doc.gov).

FOR FURTHER INFORMATION CONTACT: Requests for additional information or copies of the information collection instruments and instructions should be directed to Kathleen Styles, U.S. Census Bureau, Room 3H075, Washington, DC 20233-9200, 301-763-3460 (or via the Internet at Kathleen.M.Styles@census.gov).

SUPPLEMENTARY INFORMATION:

I. Abstract

In September 2005, the Census Bureau conducted the 2005 National Census Test (NCT) to evaluate a variety of short form questionnaire content and design modification, and the effect of a bilingual questionnaire on response rates and data quality. For more information on the 2005 NCT, see Federal Register: November 1, 2004 (Volume 69, Number 210). For the 2005 NCT, the bilingual questionnaire had a “swim lane” design that provided two response columns, one in English and one in Spanish, each containing the same questions and response categories. This form was mailed to a randomly selected set of 10,000 housing units across the United States.

Based on the results from the 2005 NCT concerning the effects of the bilingual census form, the Census Bureau is conducting the 2007 Census Bilingual Form Study (CBiFS). Results from the 2005 NCT show that the bilingual form significantly increased the self response rate nationally (by 2.2 percentage points for paper response, and 1.1 percentage points for total response), and more specifically, in areas where there is a high concentration of non-White and Hispanic populations. Moreover, the response to the bilingual form resulted in a higher proportion of Hispanic persons than the English-only form. However, item nonresponse rates for the bilingual form were higher for all household level items and Hispanic origin compared to the English-only form. There are many potential reasons for these item nonresponse discrepancies, including forms design, question wording, translation, and differences in the responding population.

The purpose of the 2007 CBiFS is to determine if the item nonresponse issues can be resolved by improved form design and utilization of the questions that will be on the form in the 2008 Census Dress Rehearsal. Moreover, this study provides the opportunity to analyze the impact of the bilingual form in areas that contain a heavy concentration of Spanish-speaking people with limited English proficiency. Additionally, this study will provide the opportunity to verify the 2005 NCT finding of increased response to the bilingual census form.

II. Method of Collection

This study will include two experimental bilingual form panels, and one control panel. Each panel will have the same questionnaire content (i.e., the content selected for dress rehearsal). The control panel will be the English-only form. The two experimental panels will contain variations of the bilingual form design to try to improve on the design that was used in the 2005 NCT. The first experimental panel will be the bilingual form that will be used in the dress rehearsal. The second experimental panel will contain an experimental format alternative to the first panel. We expect to mail each form to roughly 10,000 housing units, for a total of 30,000 housing units in the study.

In early April 2007, the Census Bureau will mail an advance letter to every housing unit in this study. The advance letter will explain why we are conducting the 2007 CBiFS. The letter also will inform households that they will soon receive a request to complete a questionnaire. The advance letter for the two bilingual panels will have a dual language design.

The second mailing will be the initial questionnaire package. Housing units will receive a paper questionnaire and a first-class postage-paid return envelope. Included in the mailing package will be a letter from the Census Bureau's Director that encourages households to respond. Households selected for the bilingual panels will receive one of the bilingual questionnaires, and households selected for the control panel will receive the English form. Respondents will be asked to mail back their completed questionnaire by Census Day, May 1, 2007.

The third mailing will be a reminder mailing. The reminder mailing asks households to respond to the census test if they have not already done so. The reminder mailing will be an English-only postcard for the control panel and a letter for the bilingual panels since the Spanish translation requires more space than is available on the postcard.

Beginning May 2007, a replacement questionnaire will be sent to all housing units that have not responded by a pre-determined date. Accompanying the questionnaire will be a letter from the Census Bureau's Director urging response. The replacement questionnaire will be the English form for all panels, including the bilingual panels.

There will be no field follow-up for the 2007 CBiFS.

III. Data

OMB Number: Not available.

Form Number(s): DE-1, DE-1(E/S), DE-2(E/S).

Type of Review: Regular.

Affected Public: Individuals or households.

Estimated Number of Respondents: 30,000.

Estimated Time Per Response: 10 minutes.

Estimated Total Annual Burden Hours: 5,000 hours.

Estimated Total Annual Cost: There is no cost to respondents except for their time to respond.

Respondent Obligation: Mandatory.

Legal Authority: Title 13 of the United States Code, Sections 141 and 193.

IV. Request for Comments

Comments are invited on (a) whether the proposed collection of information is necessary for the proper performance of the functions of the agency, including whether the information shall have practical utility; (b) the accuracy of the agency's estimate of the burden (including hours and cost) of the proposed collection of information; (c) ways to enhance the quality, utility, and clarity of the information to be collected, and (d) ways to minimize the burden of the collection of information on respondents, including through the use of automated collection techniques or other forms of information technology.

Comments submitted in response to this notice will be summarized and/or included in the request for OMB approval of this information collection; they also will become a matter of public record.

Dated: August 24, 2006.
Madeleine Clayton,
Management Analyst, Office of the Chief Information Officer.

[FR Doc. E6-14358 Filed 8-29-06; 8:45 am]

BILLING CODE 3510-07-P